SMALL BUSINESS ADMINISTRATION

Privacy Act of 1974; System of Records Notice

AGENCY: Small Business Administration.

ACTION: Notice of a new system of records.

SUMMARY: The U.S. Small Business Administration (SBA) proposes a new system of records titled Reasonable Accommodations, Personal Assistance Services, and Medical/Religious Exceptions (SBA 42), to its inventory of records systems subject to the Privacy Act of 1974, as amended. Publication of this notice complies with the Privacy Act and the Office of Management and Budget (OMB) Circular A-108 and Circular A-130. System of Records Notice (SORN) titled Reasonable Accommodations, Personal Assistance Services, and Medical/Religious Exceptions (SBA 42), includes current and former SBA employees, applicants for employment, and members of the public that request reasonable accommodations, personal assistance services or medical/religious exceptions. Reasonable accommodations and personal services for former and current federal employees may be requested to perform work-related duties. SBA is fully committed to providing reasonable accommodation and personal assistance services to employees and SBA applicants for employment as part of the larger effort to foster an inclusive organizational culture that empowers all employees to realize their full potential. Members of the public may request reasonable accommodations to attend SBA sponsored events or meetings and to seek information or services from SBA's programs or products. Medical/religious exceptions may be requested by employees and SBA applicants based on a medical condition or circumstance or a sincerely held religious belief, practice, or observance. All requests are processed through the Office of Diversity, Inclusion and Civil Rights (ODI&CR).

DATES: Submit comments on or before December 20, 2021. This new system will be effective upon publication.

ADDRESSES: You may submit comments on this notice by any of the following methods: Federal e-Rulemaking Portal: http://www.regulations.gov: Follow the instructions for submitting comments. Mail/Hand Delivery/Courier: Submit written comments to: Gaye Walker, Deputy Assistant Administrator, Office of Diversity, Inclusion and Civil Rights, U.S. Small Business Administration, 409 3rd Street SW, Suite 6400, Washington, DC 20416.

FOR FURTHER INFORMATION CONTACT: General questions, please contact Dr. Zina Sutch, Assistant Administrator Office of Diversity, Inclusion, and Civil Rights, U.S. Small Business Administration, 409 3rd Street SW, Suite 6400, Washington, DC, 20416 or via email, Zina.Sutch@sba.gov, telephone 202-836-0036. For Privacy related matters, please contact Keith A. Bluestein, Chief Information Officer/Senior Agency Official for Privacy, Office of the Chief Information Officer, U.S. Small Business Administration, 409 3rd Street SW, Suite 4000, Washington, DC, 20416 or via email to Privacyofficer@sba.gov.

SUPPLEMENTARY INFORMATION: The Privacy Act of 1974 (5 U.S.C. 552a), as amended, embodies fair information practice principles in a statutory framework governing how Federal agencies collect, maintain, use, and disseminate individuals' personal information. The Privacy Act applies to records about individuals that are maintained in a “system of records.” A system of records is any group of records under the control of a federal agency from which information is retrieved by the name of an individual or by a number, symbol or any other identifier assigned to the individual. The Privacy Act requires each federal agency to publish in the Federal Register a System of Records Notice (SORN) identifying and describing each system of records the agency maintains, the purpose for which the agency uses the Personally Identifiable Information (PII) in the system, the routine uses for which the agency discloses such information outside the agency, and how individuals can exercise their rights related to their PII information.

The new Privacy Act system of records titled Reasonable Accommodations, Personal Assistance Services, and Medical/Religious Exceptions (SBA 42) will be used to provide notice to requesters for, and recipients of, reasonable accommodations, personal assistance services, and medical/religious exceptions through the ODI&CR. The mission of the ODI&CR is to champion a diverse workforce and inclusive culture by ensuring equal access and equitable treatment regarding employment and entrepreneurial endeavors.

Requests for reasonable accommodations and personal assistance services may be made orally; however, such request must eventually be transferred to the applicable template.

This system of records is comprised of electronic and hardcopy records managed by ODI&CR. SBA 42 will not have any undue impact on the privacy of individuals and its use is compatible with collection.

SYSTEM NAME AND NUMBER:

Reasonable Accommodations, Personal Assistance Services, and Medical/Religious Exceptions (SBA 42).

SECURITY CLASSIFICATION:

Controlled Unclassified Information.

SYSTEM LOCATION:

Office of Diversity, Inclusion and Civil Rights, 409 Third Street SW, Suite 6400 Washington, DC 20416.

SYSTEM MANAGER(S):

Gaye Walker, Deputy Assistant Administrator, Office of Diversity, Inclusion and Civil Rights, U.S. Small Business Administration, 409 3rd Street SW, Suite 6400, Washington, DC 20416 or via email Gaye.Walker@sba.gov, telephone: 202-205-6753.

AUTHORITY FOR MAINTENANCE OF THE SYSTEM:

Rehabilitation Act of 1973, as amended (29 U.S.C. 791 et seq.); the Americans with Disabilities Act of 1990, as amended (42 U.S.C. 12102, 12114); the Americans with Disabilities Act (ADA) Amendments Act of 2008); Federal regulations (29 U.S.C. 791 et seq.); and 29 CFR 1614 and 1630. 29 CFR part 1630 implements the Americans with Disabilities Act; Title VII of the Civil Rights Act of 1964 (Title VII), as amended—codified at 42 U.S.C. 2000e et seq., Religious Freedom Restoration Act of 1993, Executive Order (E.O.)14043, “Requiring Coronavirus Disease 2019 Vaccination for Federal Employees”.

PURPOSE(S) OF THE SYSTEM:

The purpose of the System is to allow SBA to collect and maintain records on applicants for employment, employees (including former employees) and members of the public who request a reasonable accommodation under sections 501, 504, and 701 of the Rehabilitation Act of 1973 and under the ADA Amendments of 2008; employees who request or receive personal assistance services under Section 501, as amended, under the Rehabilitation Act; and employees requesting medical/religious exceptions in compliance with E.O. 14043, “Requiring Coronavirus Disease 2019 Vaccination for Federal Employees”, and any other applicable laws or regulations. In addition, the purpose of the system is to track and report to appropriate entities the processing of requests for reasonable accommodations, personal assistance services and medical/religious exception requests to ensure compliance with applicable laws and regulations, and to preserve and maintain the confidentiality of medical and religious affiliation information. Information in this system will be used to evaluate, approve, deny, and/or implement a request for reasonable accommodations personal assistance services, or medical/religious exceptions.

CATEGORIES OF INDIVIDUALS COVERED BY THE SYSTEM:

Applicants for employment, employees (current and former), and any other individuals who request(ed) or receive(d) a reasonable accommodation under Sections 501, 504, and 701 of the Rehabilitation Act of 1973 and under the ADA Amendments of 2008; employees who request(ed) or receive(d) personal assistance services under Section 501, as amended, of the Rehabilitation Act; and employees requesting medical/religious exceptions per E.O. 14043. This also includes authorized individuals or representatives who file requests for reasonable accommodation on behalf of an application for employment, or who file requests for reasonable accommodations, personal assistance services or medical/religious exceptions on behalf of an employee, or other individual, as well as former employees who requested or received reasonable accommodations, personal assistance services or medical/religious exceptions during their employment with SBA.

CATEGORIES OF RECORDS IN THE SYSTEM:

Records may include, but are not limited to:

• Requester's name, contact information (i.e., address, telephone number, email address and any other information provided), or other unique identifier.

• Requester's authorized representative's name and contact information (i.e., address, telephone number, email address and any other information provided).

• Requester's status (i.e., applicant, employee, or other).

• Request date.

• Meeting or other event for which the request was made (date and time of meeting/event, location).

• Job(s) (occupational series, grade level, and agency component) for which a reasonable accommodation or personal assistance service was requested.

• Information concerning the nature of any disability and the need for accommodation or assistance.

• Appropriate medical or other documentation provided in support of the request.

• Appropriate religious affiliation documents provided in support of the request.

• Details of a reasonable accommodation or personal assistance service request to include: Type(s) of accommodation or assistance requested; whether the accommodation requested was pre-employment or during employment, or for some other reason; whether the assistance requested was during employment; how the requested accommodation would assist the individual in applying for a job, how the requested accommodation or assistance would assist the individual in performing current job functions, or meeting some other need/requirement; the amount of time taken to process the request; whether the request was granted or denied and, if denied, the reason for the denial; and the sources of any assistance consulted in trying to identify possible reasonable accommodations or providing personal assistance services.

RECORD SOURCE CATEGORIES:

Current and former SBA employees, applicants for employment, and members of the public.

ROUTINE USES OF RECORDS MAINTAINED IN THE SYSTEM, INCLUDING CATEGORIES OF USERS AND PURPOSES OF SUCH USES:

In addition to those disclosures generally permitted under 5 U.S.C. 552a(b) of the Privacy Act, all or a portion of the information contained in this system may be disclosed to authorized entities, as is determined to be relevant and necessary, outside SBA as a routine use pursuant to 5 U.S.C. 552a(b)(3) as follows:

A. To disclose information to medical personnel to meet a bona fide medical emergency.

B. To the federal, state, local or foreign agency or professional organization which has responsibility for investigating, prosecuting, or enforcing violations, statutes, rules, regulations or orders issued when the Agency identifies a record, either alone or in conjunction with other information, which indicates a violation or potential violation of law.

C. To disclose to an authorized appeal grievance examiner formal complaints examiner, administrative judge, equal employment opportunity investigator, arbitrator, or other duly authorized official engaged in investigation or settlement, or a grievance, complaint, or appeal filed by an employee or applicant.

D. To a court, magistrate, grand jury, or administrative tribunal, opposing counsel during such proceedings or in settlement negotiations when presenting evidence.

E. To a Congressional office from an individual's record when that office is inquiring on the individual's behalf; the Member's access rights are no greater than the individuals.

F. In a proceeding before a court, or adjudicative body, or a dispute resolution body before which SBA is authorized to appear or before which any of the following is a party to litigation or has an interest in litigation, provided, however, that SBA determines that the use of such records is relevant and necessary to the litigation, and that, in each case, SBA determines that disclosure of the records to a court or other adjudicative body is a use of the information contained in the records that is a compatible purpose for which the records were collected: SBA, or any SBA component; any SBA employee in their official capacity; any SBA employee in their individual capacity where DOJ has agreed to represent the employee; or The United States Government, where SBA determines that litigation is likely to affect SBA or any of its components.

G. To another federal agency or commission with responsibility for labor or employment relations or other issues, including equal employment opportunity and reasonable accommodation or personal assistance service issues, when that agency or commission has jurisdiction over reasonable accommodation or personal assistance service.

H. To the Office of Management and Budget, Department of Justice (DOJ), Department of Labor, Office of Personnel Management, Equal Employment Opportunity Commission, or Office of Special Counsel to obtain advice regarding statutory, regulatory, policy, and other requirements related to reasonable accommodation or personal assistance service.

I. To the Department of Justice (DOJ), including offices of the U.S Attorneys, or other federal agency conducting litigation or in proceedings before any court, adjudicative, or administrative body, when it is deemed by the SBA to be relevant or necessary to the litigation or the SBA has an interest in such litigation when any of the following are a party to the litigation or have an interest in the litigation: (1) Any employee or former employee of SBA in their official capacity; (2) Any employee or former employee of SBA in their individual capacity when DOJ or SBA has agreed to represent the employee or a party to the litigation or have an interest in the litigation; or (3) The United States or any agency thereof.

J. To the National Archives and Records Administration (NARA) or General Services Administration (GSA) pursuant to records management inspections conducted under the authority of 44 U.S.C. 2904 and 2906.

K. To an agency or organization, including the SBA's Office of Inspector General, for the purpose of performing audit or oversight operations as authorized by law, but only such information as is necessary and relevant to such audit or oversight function.

L. To appropriate agencies, entities, and persons when (1) SBA suspects or has confirmed that there has been a breach of the system of records, (2) SBA has determined that as a result of the suspected or confirmed breach there is a risk of harm to individuals, SBA (including its information systems, programs, and operations), the Federal Government, or national security; and (3) the disclosure made to such agencies, entities, and persons is reasonably necessary to assist in connection with SBA's efforts to respond to the suspected or confirmed breach or to prevent, minimize, or remedy such harm.

M. To another federal agency or federal entity, when SBA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

N. To SBA contractors, grantees, volunteers, interns, regulators, and experts who have been engaged by SBA to assist in the performance and performance improvement of a service related to this system of records and who need access to the records to perform this activity which may also include for regulatory purpose. Recipients of these records shall be required to comply with the requirements of the Privacy Act of 1974, as amended, 5 U.S.C. 552a.

O. To consultants, contractor personnel, entities, vendors or suppliers, employees of other government agencies, whether federal, state or local, as necessary to consider a request for accommodation or to implement the decision.

POLICIES AND PRACTICES FOR STORAGE OF RECORDS:

Paper and electronic files. Maintained in locked file cabinets and cloud platform.

POLICIES AND PRACTICES FOR RETRIEVAL OF RECORDS:

Records are retrieved by name of individual, program/staff office, or request date.

POLICIES AND PRACTICES FOR RETENTION AND DISPOSAL OF RECORDS:

Records are maintained in accordance with latest edition SBA Standard Operating Procedure (SOP) series 00 41, schedules Records Management Records and Agency Accountability Records. Records maintained as part of the General Records Schedules (GRS) are disposed of in accordance with applicable SBA policies.

ADMINISTRATIVE, TECHNICAL, AND PHYSICAL SAFEGUARDS:

Access and use are limited to persons with official need to know. Users are evaluated on a recurring basis to ensure need-to-know still exists. Safeguards are implemented in accordance with the Federal Information Security Modernization Act of 2014 (FISMA) and are evaluated on a recurring basis to ensure desired operation.

RECORD ACCESS PROCEDURES:

Individuals wishing to request access to records about them should submit a Privacy Act request to the SBA Chief, Freedom of Information and Privacy Act Office, U.S. Small Business Administration, 409 Third St. SW, Eighth Floor, Washington, DC 20416 or FOIA@sba.gov. Individuals must provide their full name, mailing address, personal email address, telephone number, and a detailed description of the records requested. Individuals requesting access must also follow SBA's Privacy Act regulations regarding verification of identity and access to records (13 CFR part 102 subpart B).

CONTESTING RECORD PROCEDURES:

Individuals wishing to contest information contained in records about them should submit a Privacy Act request to the SBA Chief, Freedom of Information and Privacy Act Office, U.S. Small Business Administration, 409 Third St. SW, Eighth Floor, Washington, DC 20416 or FOIA@sba.gov. Individuals must provide their full name, mailing address, personal email address, telephone number, and a detailed description of the records contested. Requesting individuals must follow SBA's Privacy Act regulations regarding verification of identity and access to records (13 CFR part 102 subpart B).

NOTIFICATION PROCEDURES:

Individuals may make record inquiries in person at the address listed below or in writing to the Systems Manager through the SBA Chief, Freedom of Information and Privacy Act Office, U.S. Small Business Administration, 409 Third St. SW, Eighth Floor, Washington, DC 20416 or FOIA@sba.gov.

EXEMPTIONS PROMULGATED FOR THE SYSTEM:

None.

HISTORY:

None.

Zina Sutch,
Assistant Administrator, Office of Diversity, Inclusion and Civil Rights.

[FR Doc. 2021-25232 Filed 11-18-21; 8:45 am]

BILLING CODE 8026-03-P